DEPARTMENT OF THE INTERIOR

Fish and Wildlife Service

[FWS-R6-NWRS-2023-0062; FF06R0ZS00-FXRS12610600000-223]

Intent To Prepare an Updated Bison and Elk Management Plan for the National Elk Refuge in Wyoming; Environmental Impact Statement

AGENCY: Fish and Wildlife Service, Interior.

ACTION: Notice of intent; announcement of public meetings; request for comments.

SUMMARY: The U.S. Fish and Wildlife Service (Service), U.S. Department of the Interior, intends to prepare an updated Bison and Elk Management Plan (BEMP) and environmental impact statement (EIS) for the National Elk Refuge (NER). The BEMP describes the Service's proposal for the management of the Jackson bison and elk populations within their respective jurisdictions with the goal of ensuring sustainable and healthy herds; an EIS will be prepared pursuant to the National Environmental Policy Act of 1969 to evaluate the potential environmental impacts of the BEMP. We invite input from other Federal and State agencies, Tribes, nongovernmental organizations, private sector businesses, and members of the public on the scope of the EIS, alternatives to our proposed approaches for the management of bison and elk on the NER, and the pertinent issues that we should address in the EIS.

DATES:

Comment submission: To ensure consideration of written comments, they must be received on or before August 31, 2023. Comments submitted online at https://www.regulations.gov (see ADDRESSES) must be received by 11:59 p.m. eastern time on the closing date.

Public meetings: We will hold public scoping meetings on August 21 and 22, 2023 in Jackson, Wyoming, and Pinedale, Wyoming, respectively. In addition, we will present a public webinar on August 23, 2023. Additional information regarding these scoping sessions, including the times and venues, and other scoping materials will be available on our website at https://www.fws.gov/project/upcoming-bison-elk-management-plan. Persons wishing to participate in the public scoping meetings who need special accommodations should contact Alice Lee at fws-bemp@doimspp.onmicrosoft.com by August 14, 2023.

ADDRESSES: Comment submission: You may submit written comments by one of the following methods. Please do not submit comments by both methods.

• Online: https://www.regulations.gov. Follow the instructions for submitting comments to Docket No. FWS-R6-NWRS-2023-0062.

• United States mail: Public Comments Processing, Attn: FWS-R6-NWRS-2023-0062; U.S. Fish and Wildlife Service, MS: PRB/3W, 5275 Leesburg Pike, Falls Church, VA 22041-3803. Please note in your submission that your comments are regarding the U.S. Fish and Wildlife Service's Bison and Elk Management Plan.

We will post all information received on https://www.regulations.gov. This generally means that we will post any personal information you provide us (see Availability of Comments below for more information).

Public meetings: We will hold public scoping meetings on August 21 and 22, 2023, in Jackson, Wyoming, and Pinedale, Wyoming, respectively. Additional information regarding these scoping sessions, including the times and venues, and other scoping materials will be available on our website at https://www.fws.gov/project/upcoming-bison-elk-management-plan. In addition, we will present a public webinar on August 23, 2023. Information regarding registration for the webinar can be found at https://www.fws.gov/project/upcoming-bison-elk-management-plan.

FOR FURTHER INFORMATION CONTACT: Alice Lee, Conservation Planner, by phone at 720-601-1821 or via email at fws-bemp@doimspp.onmicrosoft.com. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

The National Elk Refuge (NER) is located north of Jackson, Wyoming and is part of the southern portion of the Greater Yellowstone Ecosystem. The NER comprises approximately 24,700 acres. The Jackson bison and elk herds make up one of the largest concentrations of free-ranging ungulates in North America. Currently, these herds number about 450 bison and 10,600 elk. The herds migrate across several jurisdictional boundaries, including NER, Grand Teton National Park, southern Yellowstone National Park, Bridger-Teton National Forest, Bureau of Land Management resource areas, and State and private lands, before they winter primarily on the NER. Given the wide range of authorities and interests, the Service has used, and will continue to use, a cooperative approach to management planning involving all associated Federal agencies and the Wyoming Game and Fish Department (WGFD).

In order to manage the Jackson bison and elk herds on NER, the Service worked closely with representatives from the National Park Service, U.S. Forest Service, the Animal and Plant Health Inspection Service, the Bureau of Land Management, and the WGFD to develop a BEMP. The BEMP was finalized in April 2007 after a 9-year public process (June 6, 2007, 72 FR 31339). The 2007 BEMP outlined the desired future conditions, management goals, objectives, and strategies for managing the Jackson bison and elk herds on the NER and Grand Teton National Park for 15 years. The BEMP called for reducing the number of elk wintering on the NER to 5,000 and reducing the number of bison to 500. One of the goals was a sustainable population of elk and bison that are healthy and able to adapt to changing conditions in the environment and that are at reduced risk from the adverse effect of non-endemic disease.

Following the BEMP, a Step-down Plan was finalized by the Service in December 2019 consistent with the 2007 BEMP. This Step-down Plan provides guidance to adaptively manage bison and elk herds to meet the goals and objectives outlined in the BEMP, specifically to reduce the number of elk wintering on NER and subsequently reduce reliance on supplemental feeding. Reducing feed season length has been the principal method of choice to achieve this goal.

Purpose and Need for Agency Action

More than 15 years have elapsed since the 2007 BEMP was finalized. In addition, the 2019 Step-down Plan reducing supplemental feeding on the NER ends in December 2024. The purpose and need of the updated BEMP will be to address changed conditions and newly available scientific information for bison and elk management, including supplemental winter feeding, hunting, disease management, and habitat conservation. The BEMP will set updated desired conditions, management goals, objectives, and strategies to guide the management of bison and elk on the NER and work towards a goal of a healthy sustainable population of bison and elk on NER.

NEPA Analysis of Agency Actions

The National Environmental Policy Act (NEPA; 42 U.S.C. 4321-4347) requires Federal agencies to undertake an assessment of the environmental effects of any proposed action prior to making a final decision and implementing the decision. NEPA also established the Council on Environmental Quality (CEQ), which issued regulations implementing the procedural provisions of NEPA (40 CFR parts 1500-1508). The Service has regulatory authority under the National Wildlife Refuge System Administration Act to manage the NER. Establishing a BEMP is a Federal action requiring review under NEPA.

Consistent with CEQ guidance for implementing NEPA, we intend to complete an EIS to consider approaches to manage bison and elk on the NER. The EIS will address the potential environmental impacts of a range of reasonable alternatives. The potential environmental impacts assessed in the EIS would include the effects on bison and elk from management measures; effects on other environmental resources such as federally listed species; cultural and Tribal resources; potential socioeconomic effects, including impacts on economic activities such as tourism, agriculture, and hunting; and effects on a range of other resources identified through internal and external scoping. We will address our compliance with other applicable authorities in our NEPA review.

Responsibilities to Tribes

The Service has unique responsibilities to Tribes, including under the National Historic Preservation Act (16 U.S.C. 470 et seq.); the American Indian Religious Freedom Act (42 U.S.C. 1996); Native American Grave Protection and Repatriation Act (25 U.S.C. 3001); Religious Freedom Restoration Act of 1993 (42 U.S.C. 2000bb et seq.); Joint Secretarial Order 3403, Fulfilling the Trust Responsibility to Indian Tribes in the Stewardship of Federal Lands and Waters (November 15, 2021); Secretarial Order 3206, American Indian Tribal Rights, Federal-Tribal Trust Responsibilities, and the ESA (June 5, 1997); Executive Order 13007, Indian Sacred Sites (61 FR 26771, May 29, 1996); and the agency's Native American Policies. We apply the term “Tribal” or “Tribe(s)” generally to federally recognized Tribes and Alaska Native Tribal entities.

The Service will consult and collaborate with Tribes on the proposals set forth in this document. We will also ensure that those Tribes wishing to engage directly in the NEPA process will have the opportunity to do so. As part of this process, we will protect the confidential nature of any consultations and other communications we have with Tribes, to the extent permitted by the Freedom of Information Act and other laws.

Potential Alternatives

We will be considering a range of reasonable alternatives for management of bison and elk on the NER that potentially include management measures such as winter feeding, hunting, disease management, and habitat conservation. These approaches may be considered separately or in any combination in the EIS.

Under the no-action alternative, the Service would continue to manage bison and elk on the NER based on the 2007 BEMP.

Scoping Process

In accordance with NEPA, we are conducting a public scoping process to invite input on the range of alternatives and issues to be addressed during the preparation of the EIS. Scoping is an early and open process for determining the scope of issues to be addressed and identifying issues that should be considered in selecting an alternative for implementation. To that end, during the scoping process, we are inviting input from other interested government agencies, Native American Tribes, the scientific community, industry, nongovernmental organizations, members of the public, and other interested parties. We solicit input on the following issues:

1. The alternatives considered for managing bison and elk on the NER.

2. Other alternatives, or combinations of alternatives, that should be considered with respect to managing bison and elk on the NER.

3. Specific requirements for NEPA analyses related to the proposed action and alternatives.

4. Considerations for evaluating the significance of impacts on bison and other affected resources, such as other listed or sensitive wildlife and plant species, cultural resources, and socioeconomic resources or activities.

5. Information and analyses regarding other resources that may be affected by the proposed action.

6. Considerations for evaluating the interactions between affected natural resources.

7. Considerations for evaluating the impacts on species, locations, or other resources of religious or cultural significance for Tribes and impacts on cultural values from the actions being considered.

8. Considerations for evaluating climate change effects on bison, elk, and other affected resources.

9. Integrating the management of bison and elk with existing guidance and plans, such as the NER's Comprehensive Conservation Plan.

Schedule for the Decision-Making Process

After the scoping period is completed, the Service will develop a draft EIS. The Service currently expects to issue the Notice of Availability for the draft EIS in August 2024 to begin a 45-day public comment period. After the public comment period ends, the Service will review and respond to comments received and will develop the final EIS. The Service currently expects to make the final EIS available to the public in July 2025. A ROD will be completed no sooner than 30 days after the final EIS is released, in accordance with 40 CFR 1506.11.

Availability of Comments

If you submit information via https://www.regulations.gov, your entire submission—including any personal identifying information—will be posted on the website. If your submission is made via a hardcopy that includes personal identifying information, you may request at the top of your document that we withhold this information from public review. However, we cannot guarantee that we will be able to do so. We will post all hardcopy submissions on https://www.regulations.gov. All submissions from organizations or businesses, and from individuals identifying themselves as representatives or officials of organizations or businesses, will be made available for public disclosure in their entirety.

Matthew J. Hogan,
Regional Director, Mountain-Prairie Region.

[FR Doc. 2023-16378 Filed 7-31-23; 8:45 am]

BILLING CODE 4333-15-P